DEPARTMENT OF LABOR

Employment and Training Administration

Investigations Regarding Certifications of Eligibility to Apply for Worker Adjustment Assistance and Alternative Trade Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than September 10, 2007.

Interested persons are invited to submit written comments regarding the subject matter of the investigations to the Director, Division of Trade Adjustment Assistance, at the address shown below, not later than September 10, 2007. The petitions filed in this case are available for inspection at the Office of the Director, Division of Trade Adjustment Assistance, Employment and Training Administration, U.S. Department of Labor, Room C-5311, 200 Constitution Avenue, NW., Washington, DC 20210.

Signed at Washington, DC, this 21st day of August 2007.
Ralph DiBattista,
Director, Division of Trade Adjustment Assistance.

Appendix—TAA Petitions Instituted Between 8/13/07 and 8/17/07
TA-W | Subject firm (petitioners) | Location | Date of institution | Date of petition
61977 | Hoover Precision Products, Inc. (Comp) | Erwin, TN | 08/13/07 | 08/10/07
61978 | PCS Company (State) | Fraser, MI | 08/13/07 | 07/30/07
61979 | Continental A.F.A. (Wrks) | El Paso, TX | 08/13/07 | 08/09/07
61980 | Maxair (Comp) | Fort Worth, TX | 08/13/07 | 08/09/07
61981 | Tekni-Plex (USW) | Bucyrus, OH | 08/14/07 | 08/13/07
61982 | Fasco Industries, Inc. (Comp) | Cassville, MO | 08/14/07 | 08/13/07
61983 | Molon Motor and Coil Co. (Wkrs) | El Paso, TX | 08/14/07 | 08/13/07
61984 | International Paper (Comp) | Terre Haute, IN | 08/15/07 | 08/14/07
61985 | Mayfield Cap Company (Wkrs) | Mayfield, KY | 08/15/07 | 08/06/07
61986 | IBM Global Services (Wkrs) | Racine, WI | 08/15/07 | 08/14/07
61987 | Longaberger Company (The) (Wkrs) | Frazeysburg, OH | 08/15/07 | 07/23/07
61988 | Sun Chemical Corporation (Comp) | Rosebank SI, NY | 08/15/07 | 08/14/07
61989 | Yellow Book USA (frmly MacGregor Publishing Co) (Wkrs) | Mount Vernon, WA | 08/15/07 | 08/10/07
61990 | CDI Corp (State) | Fishkill, NY | 08/15/07 | 08/10/07
61991 | Superior Studs—Glide Studmill (Comp) | Glide, OR | 08/16/07 | 08/15/07
61992 | Tyco Electronics (Wrks) | Spartanburg, SC | 08/16/07 | 08/15/07
61993 | Dell, Inc. (Wrks) | Roseburg, OR | 08/16/07 | 08/08/07
61994 | Child Craft Industries (Comp) | New Salisbury, IN | 08/16/07 | 08/15/07
61995 | Kimberly Clark Corporation Global Sales (Wrks) | Neenah, WI | 08/16/07 | 08/15/07
61996 | Standard Textiles (State) | Augusta, GA | 08/16/07 | 08/15/07
61997 | High Rock Hosiery, Inc. (Comp) | Lexington, NC | 08/16/07 | 08/15/07
61998 | Bush Industries (Comp) | Jamestown, NY | 08/16/07 | 08/15/07
61999 | Geneon Entertainment (USA) (Comp) | Long Beach, CA | 08/16/07 | 08/13/07
62000 | Lear Corporation (Wkrs) | Detroit, MI | 08/17/07 | 08/08/07
62001 | Unifour Finishers, Inc. (Comp) | Hickory, NC | 08/17/07 | 08/14/07
62002 | Broward Casting Foundry (State) | Ft. Lauderdale, FL | 08/17/07 | 08/15/07
62003 | Custom Tooling Systems, Inc. (State) | Zeeland, MI | 08/17/07 | 08/15/07
62004 | Schrader Bridgeport (Comp) | Monroe, NC | 08/17/07 | 08/16/07

[FR Doc. E7-17042 Filed 8-28-07; 8:45 am]

BILLING CODE 4510-30-P